DEPARTMENT OF HEALTH AND HUMAN SERVICES

Centers for Disease Control and Prevention

Healthcare Infection Control Practices Advisory Committee (HICPAC); Amended Notice of Meeting

Notice is hereby given of a change in the meeting of the Healthcare Infection Control Practices Advisory Committee (HICPAC); March 5, 2020, from 9:00 a.m. to 5:00 p.m., EST, and March 6, 2020, from 9:00 a.m. to 12:00 p.m., EST. Centers for Disease Control and Prevention, Global Communications, Center, Building 19, Auditorium B, 1600 Clifton Road NE, Atlanta, Georgia 30329-4027, and teleconference at 1-800-857-2850, passcode: 2622054, which was published in the Federal Register on January 6, 2020 Volume 85, Number 3, page 506.

The meeting will now be held via teleconference only on March 5, 2020, from 9:00 a.m. to 1:00 p.m., EST. A total of 200 lines will be available. The public is welcome to listen to the meeting by dialing 1-800-857-2850, and the passcode is 2622054.

For Further Information Contact: Koo-Whang Chung, M.P.H., HICPAC, Division of Healthcare Quality Promotion, NCEZID, CDC, l600 Clifton Road NE, Mailstop H16-3, Atlanta, Georgia 30329-4027; Telephone: (404) 498-0730; Email: hicpac@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-05260 Filed 3-13-20; 8:45 am]

BILLING CODE 4163-18-P